DEPARTMENT OF ENERGY

Federal Energy Regulatory Commission

[Docket No. EG03-28-000, et al.]

Enron Europe Operation (Advisor) Limited , et al.; Electric Rate and Corporate Filings

December 17, 2002.

The following filings have been made with the Commission. The filings are listed in ascending order within each docket classification.

1. Enron Europe Operation (Advisor) Limited

[Docket No. EG03-28-000]

Take notice that on December 11, 2002, Enron Europe Operation (Advisor) Limited (the Applicant), with its principal office at Four Milbank, London SW1P 3ET, United Kingdom, filed with the Federal Energy Regulatory Commission (Commission) an application for determination of exempt wholesale generator status pursuant to part 365 of the Commission's regulations.

Applicant states that it is engaged directly and exclusively in the business of operating a gas-fired facility located in the Marmara Ereglisi, Turkey, with an aggregate capacity of approximately 478MW. Applicant further states that electric energy produced by the facility will be sold at wholesale or at retail exclusively to foreign consumers.

Comment Date: January 6, 2003.

2. SII Enerji ve Uretim Limited Sirketi

[Docket No. EG03-29-000]

Take notice that on December 11, 2002, SII Enerji ve Uretim Limited Sirketi (the Applicant), with its principal office at Maslak Kule, Ayazaga Mahallesi, Meydan Sokak No. 28, Maslak Istanbul, Turkey, filed with the Federal Energy Regulatory Commission (Commission) an application for determination of exempt wholesale generator status pursuant to part 365 of the Commission's regulations.

Applicant states that it is engaged directly and exclusively in the business of operating a gas-fired facility located in the Marmara Ereglisi, Turkey, with an aggregate capacity of approximately 478MW. The Applicant further states that electric energy produced by the facility will be sold at wholesale or at retail exclusively to foreign consumers.

Comment Date: January 6, 2003.

3. Energy Transfer—Hanover Ventures, LP

[Docket No. EG03-30-000]

Take notice that on December 12, 2002, Energy Transfer—Hanover Ventures, LP (Applicant), 2838 Woodside Street, Dallas, Texas 75204 filed with the Federal Energy Regulatory Commission (Commission) an application for determination of exempt wholesale generator status pursuant to part 365 of the Commission's regulations.

Applicant is a limited partnership indirectly owned by Hanover Compressor Company and Energy Transfer Group, LLC. Applicant states that it owns a 23-MW natural gas fired peaking facility located near Taft, California, which is an “eligible facility” as defined under section 32(a)(2) of the Public Utility Holding Company Act of 1935, and that the facility commenced operation in March 2002.

Comment Date: January 6, 2003.

4. Florida Power & Light Company

[Docket No. ER03-157-001]

Take notice that on December 16, 2002, Florida Power & Light Company (FPL) tendered for filing Rate Schedule FERC No. 110, the restated and revised contract for interchange service between Florida Power & Light Company and the Florida Municipal Power Agency including all associated interchange Service Schedules.

Comment Date: January 6, 2003.

5. Commonwealth Edison Company

[Docket No. ER03-253-000]

Take notice that on December 13, 2002, Commonwealth Edison Company (ComEd) tendered for filing with the Federal Energy Regulatory Commission a notice of withdrawal of its filing made on November 1, 2002, in the above-captioned proceeding. ComEd withdraws the filing of Original Service Agreement Nos. 667, 668, 669, and 670 under ComEd's FERC Electric Tariff, Second Revised Volume No. 5. The service agreements were between ComEd and NRG Power Marketing Inc. (NRG) for transmission service related to the Kendall Project in Kendall County, Illinois from January 1, 2003, through January 1, 2004.

In addition, notice is hereby given that the remaining service agreements between ComEd and NRG for transmission service related to the Kendall Project in Kendall County, Illinois for years 2004 through 2011 are terminated. The notice of withdrawal has been served on NRG Power Marketing Inc. and the Illinois Commerce Commission.

Comment Date: January 3, 2003.

6. Niagara Mohawk Power Corporation

[Docket No. ER03-260-000]

Take notice that on December 10, 2002, Niagara Mohawk Power Corporation (Niagara Mohawk) tendered for filing with the Federal Energy Regulatory Commission (Commission) a notice of cancellation of its Electric Rate Schedule No. 128. Niagara Mohawk states that this rate schedule was an electric transmission service agreement (Agreement) between Niagara Mohawk Power Corporation and Central Hudson Gas and Electric Corporation that dealt with Niagara Mohawk's transmission of electric energy to Central Hudson Gas and Electric Corporation's transmission system from the New York Power Authorities' Blenheim-Gilboa pumped storage generating facility. Central Hudson Gas and Electric has advised Niagara Mohawk that it has no further need to continue this service and has requested termination of the agreement.

An effective date of June 30, 2002, is requested as it reflects the mutually agreed upon date, indicated by Central Hudson Gas and Electric to Niagara Mohawk. To the extent a waiver is necessary to obtain the requested effective date, Niagara Mohawk requests waiver of any Commission requirement that a rate schedule be filed not less than 60 days or more than 120 days from its effective date.

Comment Date: December 31, 2002.

7. U.S. Power and Gas Pennsylvania LLC

[Docket No. ER03-261-000]

Take notice that on December 11, 2002, U.S. Power and Gas LLC (USP&G) tendered for filing with the Federal Energy Regulatory Commission (Commission) a petition for acceptance of USP&G Rate Schedule FERC No. 1; the granting of certain blanket approvals,including the authority to sell electricity at market-based rates; and waiver of certain Commission regulations.

USP&G intends to engage in wholesale electric power and energy purchases and sales as a marketer. USP&G states that it is not in the business of generating or transmitting electric power. USP&G further notes that it is a wholly-owned subsidiary of Petrocom Management Incorporated, which, through its affiliates, markets and trades natural gas, power and clean products.

Comment Date: January 2, 2003.

8. Midwest Independent Transmission System Operator, Inc.

[Docket No. ER03-265-000]

Take notice that on December 12, 2002, the Midwest Independent Transmission System Operator, Inc. (Midwest ISO) tendered for filing proposed revisions to the Midwest ISO Open Access Transmission Tariff, FERC Electric Tariff, Second Revised Volume No. 1 to clarify charges for redirected service. Applicant requests an effective date of December 6, 2002.

The Midwest ISO seeks waiver of the Commission's regulations, 18 CFR 385.2010 with respect to service on all required parties. The Midwest ISO states that it has posted this filing and its OATT is on its Internet site at www.midwestiso.org, and that it will provide hard copies to any interested parties upon request.

Comment Date: January 2, 2003.

9. San Diego Gas & Electric Company

[Docket No. ER03-266-000]

Take notice that on December 12, 2002, San Diego Gas & Electric Company (SDG&E) tendered for filing its application for the approval of final electric interconnection costs charged to CalPeak Power Enterprise, LLC (Enterprise) pursuant to the Interconnection Agreement (IA) between SDG&E and Enterprise, Service Agreement No. 10 to SDG&E's FERC Electric Tariff, First Revised Volume No. 6. Along with the interconnection costs, SDG&E also tendered for filing a request for a decrease in the monthly O&M rate to be charged to Enterprise for the facilities, as incorporated into First Revised Service Agreement No. 10 to SDG&E's FERC Electric Tariff, First Revised Volume No. 6.

SDG&E states that copies of the filing have been served on CalPeak Power Enterprise, LLC, and on the California Public Utilities Commission.

Comment Date: January 2, 2003.

10. San Diego Gas & Electric Company

[Docket No. ER03-267-000]

Take notice that on December 12, 2002, San Diego Gas & Electric Company (SDG&E) tendered for filing its application for the approval of final electric interconnection costs charged to CalPeak Power Border, LLC (Border) pursuant to the Interconnection Agreement (IA) between SDG&E and Border, Service Agreement No. 12 to SDG&E's FERC Electric Tariff, First Revised Volume No. 6. Along with the interconnection costs, SDG&E also tendered for filing a request for a decrease in the monthly O&M rate to be charged to Border for the facilities, as incorporated into First Revised Service Agreement No. 12 to SDG&E's FERC Electric Tariff, First Revised Volume No. 6.

SDG&E states that copies of the filing have been served on CalPeak Power Border, LLC, and on the California Public Utilities Commission.

Comment Date: January 2, 2003.

11. Public Service Company of New Mexico

[Docket No. ER03-268-000]

Take notice that on December 13, 2002, Public Service Company of New Mexico (PNM) tendered for filing a funding agreement for the design, engineering and construction services associated with the facilities necessary to interconnect the FPL Energy New Mexico Wind, LLC (FPLE) proposed 204 MW name plate capacity wind farm generation project in eastern New Mexico to PNM's transmission system.

Copies of the filing have been sent to FPLE, the New Mexico Public Regulation Commission, and the New Mexico Attorney General.

Comment Date: January 3, 2003.

12. Handsome Lake Energy, LLC

[Docket No. ER03-269-000]

Take notice that on December 13, 2002, Handsome Lake Energy, LLC (Handsome Lake) tendered for filing, under section 205 of the Federal Power Act, proposed revisions to its Rate Schedule FERC No. 2 for reactive power and voltage control from generation sources service provided to the transmission facilities controlled by the PJM Interconnection LLC (PJM). Handsome Lake respectfully requests that the Commission accept the proposed rate schedule for filing to become effective on the first day of the month immediately following the Commission's acceptance of such rate schedule.

Handsome Lake states that it has mailed a copy of this filing to PJM.

Comment Date: January 3, 2003.

13. Thompson River Co-Gen, LLC

[Docket No. ER03-270-000]

Take notice that on December 13, 2002, Thompson River Co-Gen, LLC (Thompson) amended its petition to the Commission for acceptance of Thompson Rate Schedule FERC No. 1; the granting of certain blanket approvals, including the authority to sell electricity at market-based rates, and waiver of certain Commission regulations.

Thompson intends to sell at wholesale electricity generated from a 16-megawatt cogeneration facility located in Thompson Falls, Montana, to NorthWestern Energy, LLC, (NWE). Thompson does not intend to make other wholesale sales of electricity to any entity other than NWE. Thompson is an LLC with passive ownership interests, and Barry Bates and Lawrence Underwood are the Partners and will manage Thompson's day-to-day business. Thompson has no legal or economic interest, and is not in any way related to, any utility or other entity that owns any generation, transmission or other jurisdictional facilities.

Comment Date: January 3, 2003.

14. Virginia Electric and Power Company

[Docket No. ER03-271-000]

Take notice that on December 13, 2002, Virginia Electric and Power Company, tendered for filing revised sheets implementing changes to Virginia Electric and Power Company?s contract with Virginia Municipal Electric Association No. 1, (VMEA), Rate Schedule No. 109.

Copies of the filing were served upon VMEA, the North Carolina Utilities Commission and the Virginia State Corporation Commission.

Comment Date: January 3, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Website under the “e-Filing” link. The Commission strongly encourages electronic filings.

Linwood A. Watson, Jr.,
Deputy Secretary.

[FR Doc. 02-32297 Filed 12-20-02; 8:45 am]

BILLING CODE 6717-01-P